DEPARTMENT OF STATE

[Public Notice 8479]

Notice of Proposal to Extend the Memorandum of Understanding Between the Government of the United States of America and the Government of the Republic of Honduras Concerning the Imposition of Import Restrictions on Archaeological Material from the Pre-Columbian Cultures of Honduras

The Government of the Republic of Honduras has informed the Government of the United States of America of its interest in an extension of the Memorandum of Understanding Between the Government of the United States of America and the Government of the Republic of Honduras Concerning the Imposition of Import Restrictions on Archaeological Material from the Pre-Columbian Cultures of Honduras (“MOU”).

Pursuant to the authority vested in the Deputy Secretary of State, and pursuant to the requirement under 19 U.S.C. 2602(f)(1), an extension of this MOU is hereby proposed.

Pursuant to 19 U.S.C. 2602(f)(2), the views and recommendations of the Cultural Property Advisory Committee regarding this proposal will be requested.

A copy of the MOU, the Designated List of restricted categories of material, and related information can be found at the following Web site: http://eca.state.gov/cultural-heritage-center.

Dated: September 16, 2013.
William J. Burns,
Deputy Secretary of State, Department of State.

[FR Doc. 2013-23191 Filed 9-23-13; 8:45 am]

BILLING CODE 4710-05-P